DEPARTMENT OF TRANSPORTATION

National Highway Traffic Safety Administration

49 CFR Part 571

[Docket No. NHTSA-2015-0070]

RIN 2127-AL57

Federal Motor Vehicle Safety Standards; Rear Impact Protection, Lamps, Reflective Devices, and Associated Equipment Single Unit Trucks

AGENCY: National Highway Traffic Safety Administration (NHTSA), Department of Transportation.

ACTION: Advance notice of proposed rulemaking; reopening of comment period.

SUMMARY: This document reopens the comment period for a July 23, 2015 advance notice of proposed rulemaking (ANPRM) that NHTSA issued in response to a petition for rulemaking from Ms. Marianne Karth and the Truck Safety Coalition relating to rear impact (underride) guards. The original comment period closed September 21, 2015. The agency is reopening the comment period for 30 days.

DATES: The comment closing date for the July 23, 2015 ANPRM (Docket No. NHTSA-2015-0070; 80 FR 43663) is November 5, 2015.

ADDRESSES: You may submit comments (identified by the DOT Docket Number) by any of the following methods: the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Regardless of how you submit your comments, please mention the docket number of the ANPRM (Docket No. NHTSA-2015-0070).

You may also call the Docket at 202-366-9324.

Instructions: For detailed instructions on submitting comments and additional information on the rulemaking process, see the discussion under the “Submission of Comments” heading of the July 23, 2015 ANPRM (80 FR at 43679). Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: For technical issues, you may contact Robert Mazurowski, Office of Crashworthiness Standards (telephone: 202-366-1012) (fax: 202-493-2990). For legal issues, you may contact Deirdre Fujita, Office of Chief Counsel (telephone: 202-366-2992) (fax: 202-366-3820). The address for these officials is: National Highway Traffic Safety Administration, U.S. Department of Transportation, 1200 New Jersey Avenue SE., West Building, Washington, DC 20590.

SUPPLEMENTARY INFORMATION: On July 23, 2015, NHTSA published an ANPRM (80 FR 43663) pertaining to a petition for rulemaking from Ms. Marianne Karth and the Truck Safety Coalition (petitioners) regarding possible amendments to the Federal motor vehicle safety standards (FMVSSs) relating to rear impact (underride) guards (FMVSS Nos. 223 and 224). The petitioners requested that NHTSA require underride guards on vehicles not currently required by the FMVSSs to have guards, notably, single unit trucks, and improve the standards' performance requirements for all guards. The ANPRM requested comment on NHTSA's estimated cost and benefits of requirements for underride guards on single unit trucks, and for retroreflective material on the rear and sides of the vehicles to improve the conspicuity of the vehicles to other motorists.¹ NHTSA provided a 60-day comment period for the ANPRM, which closed September 21, 2015.

¹ As noted in the ANPRM (80 FR at 43664), in the near future NHTSA will be issuing a notice of proposed rulemaking on improving the standards' performance requirements for guards on all vehicles subject to the standards.

Reopening of Comment Period

NHTSA is reopening the comment period for the ANPRM for 30 days.² NHTSA believes that a 30 day period is sufficient and balances the interests of encouraging public participation in the rulemaking process with the desire to not unnecessarily delay key decisions by NHTSA about the rulemaking and attainment of the potential societal benefits associated with a final rule.

² The National Ready Mixed Concrete Association (NRMCA) submitted a comment to the docket requesting a “90-day extension” of the comment period for the ANPRM. The request did not meet NHTSA's requirements for timely submissions of petitions for extension of the time to submit comments (see 49 CFR 553.19). The agency's reopening of the comment period does not result from NRMCA's untimely petition. NHTSA also notes that NRMCA's requested 90 day period is excessively long. NRMCA did not explain why 90 additional days, on top of the 60 days originally provided, are needed to respond to the ANPRM.

Accordingly, the public comment closing dates for DOT Docket No. NHTSA-2015-0070 (RIN 2127-AL57) is reopened for 30 days as indicated in the DATES section of this document. NHTSA notes that the 30 day period is in addition to the time that has passed since the original September 21 comment closing date until today. Thus, all in all, more than 30 days has been provided. It is further noted that the agency will consider late comments to the extent possible.

Authority: 49 U.S.C. 322, 30111, 30115, 30117 and 30166; delegation of authority at 49 CFR 1.95.

Raymond R. Posten,
Associate Administrator for Rulemaking.

[FR Doc. 2015-25377 Filed 10-5-15; 8:45 am]

BILLING CODE 4910-59-P